ENVIRONMENTAL PROTECTION AGENCY

[FRL-9471-3]

Notice of Webcast Meeting of the Environmental Financial Advisory Board (EFAB)

AGENCY: Environmental Protection Agency (EPA).

ACTION: Notice.

SUMMARY: The United States Environmental Protection Agency's (EPA) Environmental Financial Advisory Board (EFAB) will hold a Webcast Meeting on October 18, 2011. EFAB is an EPA advisory committee chartered under the Federal Advisory Committee Act (FACA) to provide advice and recommendations to EPA on creative approaches to funding environmental programs, projects, and activities.

The purpose of the meeting is to hear from informed speakers on environmental finance issues, proposed legislation, Agency priorities and to discuss progress with work projects under EFAB's current Strategic Action Agenda; and review and consider recent requests for assistance from a number of EPA offices.

Environmental Finance topics expected to be discussed include: financing clean air technology; financing tribal environmental programs; and transit-oriented development financing.

The webcast meeting is open to the public. All members of the public who wish to participate in the webcast should register in advance, no later than Friday, October 7, 2011.

DATES: Tuesday, October 18, 2011 from 1 p.m.-5 p.m.

Registration and Information Contact

Please register at http://www.epa.gov/efinpage/efabmeeting.htm.

The webcast will be ADA compliant closed captioning. For information on access or services for individuals with disabilities, or to request accommodations for a person with a disability, please contact Sandra Williams, U.S. EPA, at (202) 564-4999 or williams.sandra@epa.gov, at least 10 days prior to the meeting, to allow as much time as possible to process your request.

Dated: September 20, 2011.
Joseph L. Dillon,
Director, Center for Environmental Finance.

[FR Doc. 2011-24643 Filed 9-23-11; 8:45 am]

BILLING CODE 6560-50-P